DEPARTMENT OF COMMERCE

International Trade Administration

[A-570-890]

Initiation of Administrative Review of the Antidumping Duty Order on Wooden Bedroom Furniture From the People's Republic of China

AGENCY: Import Administration, International Trade Administration, Department of Commerce.

SUMMARY: The Department of Commerce (the Department) received requests to conduct an administrative review of the antidumping duty order on wooden bedroom furniture from the People's Republic of China (PRC). In addition, the Department received a request to defer the administrative review of one company for one year. The anniversary month of this order is January. In accordance with the Department's regulations, we are initiating this administrative review.

DATES: Effective Date: February 28, 2011.

FOR FURTHER INFORMATION CONTACT: Jeffrey Pedersen, or Rebecca Pandolph, AD/CVD Operations, Office 4, Import Administration, International Trade Administration, U.S. Department of Commerce, 14th Street and Constitution Avenue, NW., Washington, DC 20230, telephone: (202) 482-2769 and (202) 482-3627, respectively.

SUPPLEMENTARY INFORMATION:

Background

The Department received timely requests, in accordance with 19 CFR 351.213(b), for an administrative review of the antidumping duty order on wooden bedroom furniture from the PRC ¹ covering multiple entities. The Department is now initiating an administrative review of the order covering those entities.

¹ See Notice of Amended Final Determination of Sales at Less Than Fair Value and Antidumping Duty Order: Wooden Bedroom Furniture From the People's Republic of China, 70 FR 329 (January 4, 2005).

Notice of No Exports, Sales, or Entries

Under 19 CFR 351.213(d)(3), the Department may rescind a review where there are no exports, sales, or entries of subject merchandise during the respective period of review (POR). If a producer or exporter named in this notice of initiation had no exports, sales, or entries during the POR, it must notify the Department within 60 days of publication of this notice in the Federal Register. The Department will consider rescinding the review only if the producer or exporter, as appropriate, submits a properly filed and timely statement certifying that it had no exports, sales, or entries of subject merchandise during the POR.² All submissions must be made in accordance with 19 CFR 351.303 and are subject to verification in accordance with section 782(i) of the Tariff Act of 1930, as amended (the Act). Six copies of the submission should be submitted to the Assistant Secretary for Import Administration, International Trade Administration, Room 1870, U.S. Department of Commerce, 14th Street and Constitution Avenue, NW., Washington, DC 20230. Further, in accordance with 19 CFR 351.303(f)(3)(ii), a copy of each request must be served on every party on the Department's service list.

² Producers or exporters may also fulfill this requirement by submitting a properly filed and timely quantity and value (Q&V) questionnaire response that indicates that the entity or entities had no exports, sales, or entries of subject merchandise during the POR. See discussion infra providing further information regarding Q&V questionnaires.

Respondent Selection

Section 777A(c)(1) of the Act directs the Department to calculate individual dumping margins for each known exporter and producer of the subject merchandise. Where it is not practicable to examine all known producers/exporters of subject merchandise, section 777A(c)(2)(B) of the Act permits the Department to examine exporters and producers accounting for the largest volume of the subject merchandise from the exporting country that can be reasonably examined. Due to the large number of firms for which an administrative review of wooden bedroom furniture has been requested, and the Department's experience regarding the resulting administrative burden of reviewing each company for which a request has been made, the Department is considering exercising its authority to limit the number of respondents selected for review in accordance with the Act.

In the event that the Department limits the number of respondents for individual examination in the administrative review of wooden bedroom furniture, the Department intends to select respondents based on volume data contained in responses to Q&V questionnaires. Further, the Department intends to limit the number of Q&V questionnaires issued in the review based on U.S. Customs and Border Protection (CBP) data for U.S. imports classified under the Harmonized Tariff Schedule of the United States (HTSUS) headings identified in the scope of the antidumping duty order on wooden bedroom furniture from the PRC. Since the units used to measure import quantities are not consistent across the HTSUS headings identified in the scope of the order on wooden bedroom furniture from the PRC, the Department will limit the number of Q&V questionnaires issued based on the import values in CBP data which will serve as a proxy for import quantities. Parties subject to the review to which the Department does not send a Q&V questionnaire may file a response to the Q&V questionnaire by the applicable deadline if they desire to be included in the pool of companies from which the Department will select mandatory respondents. Parties will be given the opportunity to comment on the CBP data used by the Department to limit the number of Q&V questionnaires issued. We intend to release the CBP data under administrative protective order (APO) to all parties having an APO within seven days of publication of this notice in the Federal Register. The Department invites comments regarding CBP data and respondent selection within five days of placement of the CBP data on the record.

In this case, the Department has decided to send Q&V questionnaires to the 21 companies for which reviews were requested with the largest total values of subject merchandise imported into the United States during the POR according to CBP data. The Department will issue the Q&V questionnaire the day after this notice is signed. In addition, the Q&V questionnaire will be available on the Department's Web site at http://trade.gov/ia/ on the date this notice is signed. The responses to the Q&V questionnaire must be received by the Department by March 15, 2011. Please be advised that due to the time constraints imposed by the statutory and regulatory deadlines for antidumping duty administrative reviews, the Department does not intend to grant any extensions for the submission of responses to the Q&V questionnaire.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide From the People's Republic of China, 59 FR 22585 (May 2, 1994). In accordance with the separate-rates test, the Department assigns separate rates to companies in NME cases only if respondents can demonstrate the absence of both de jure and de facto government control over export activities.

All firms listed below that wish to qualify for separate-rate status in this administrative review must complete, as appropriate, either a separate-rate certification or application, as described below. In order to demonstrate separate-rate eligibility, the Department requires entities for which a review was requested and that were assigned a separate rate in the most recent segment of this proceeding in which they participated, to certify that they continue to meet the test for obtaining a separate rate through the Separate Rate Certification form which will be available on the Department's Web site at http://ia.ita.doc.gov/nme/nme-sep-rate.html on the date of publication of this Federal Register. In responding to the certification, please follow the “Instructions for Filing the Certification” in the Separate Rate Certification. Separate Rate Certifications are due to the Department no later than 60 days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on the Department's Web site at http://ia.ita.doc.gov/nme/nme-sep-rate.html on the date of publication of this Federal Register notice. In responding to the Separate Rate Application, refer to the instructions contained in the application. Separate Rate Applications are due to the Department no later than 60 calendar days of publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceedings (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a separate-rate application or certification and subsequently are selected as mandatory respondents, these exporters and producers will no longer be eligible for separate-rate status unless they respond to all parts of the questionnaire as mandatory respondents.

Notification

This notice constitutes public notification to all firms for which an administrative review of wooden bedroom furniture has been requested and that are seeking separate rate status in that review, that they must submit a timely Separate Rate Application or Certification (as appropriate) as described above, in order to receive consideration for separate-rate status. Firms to which the Department issues a Q&V questionnaire must submit a timely and complete response to the Q&V questionnaire, in addition to a timely and complete Separate Rate Application or Certification in order to receive consideration for separate-rate status. In other words, the Department will not give consideration to any timely Separate Rate Certification or Application made by parties to whom the Department issued a Q&V questionnaire but who failed to respond in a timely manner to the Q&V questionnaire. Exporters subject to the review to which the Department does not send a Q&V questionnaire may receive consideration for separate-rate status if they file a timely Separate Rate Application or a timely Separate Rate Certification without filing a response to the Q&V questionnaire. All information submitted by respondents in this administrative review is subject to verification. As noted above, the Separate Rate Certification, the Separate Rate Application, and the Q&V questionnaire will be available on the Department's Web site on the date of publication of this notice in the Federal Register.

Request To Defer Review

In their request to be reviewed, Dorbest Limited, Rui Feng Woodwork (Dongguan) Co., Ltd., and Rui Feng Lumber Development (Shenzhen) Co., Ltd. (collectively Dorbest) requested that the Department defer the initiation of the review of Dorbest for one year, pursuant to 19 CFR 351.213(c). Dorbest contends that a one year deferral will result in an efficient use of Departmental resources because it will allow parties to learn whether Dorbest has been excluded from the furniture order based on the final results of redetermination currently before the Court of International Trade in which the Department recalculated a de minimis rate for Dorbest for the investigation in this proceeding.⁵

⁵ See Dorbest Limited v. United States, Consol. Court No. 05-00003, Slip Op. 10-79 (CIT July 21, 2010): Final Results of Redetermination Pursuant to Remand (November 10, 2011).

The Department's regulations provide that the Department may defer the initiation of an antidumping duty administrative review, in whole or in part, for one year if: (1) The request for review was accompanied by a request to defer the review; and (2) neither the exporter or producer for which the deferral is requested, the importer of subject merchandise from that exporter or producer, or a domestic interested party objected to the deferral.⁶ No parties have objected to the deferral of this review with respect to Dorbest.

⁶ See 19 CFR 351.213(c)(1)(i) and (ii).

The preamble to the Department's regulations states that the Department established the provision for deferring the initiation of an administrative review, in part, to reduce burdens on the Department.⁷ We believe that deferring the instant review of Dorbest is not likely to save Departmental resources because it is likely that, in this review, as in every prior administrative review of this order, the Department will find it necessary to limit the number of respondents examined.⁸ Accordingly, even if the Department defers Dorbest's administrative review, it will likely still review the same number of respondents, i.e., the maximum number of respondents which its resources will permit.

⁷ See Antidumping Duties; Countervailing Duties, 62 FR 27296, 27317 (May 19, 1997).

⁸ See, e.g., Wooden Bedroom Furniture From the People's Republic of China: Preliminary Results of Antidumping Duty Administrative Review and Intent To Rescind Review in Part, 75 FR 5952, 5953 (February 5, 2010) (limiting the respondents examined), unchanged in Wooden Bedroom Furniture From the People's Republic of China: Final Results and Final Rescission in Part, 75 FR 50992 (August 18, 2010).

Finally, we disagree with Dorbest's argument that deferral is appropriate because the results of ongoing litigation from the investigation may make it unnecessary to conduct a review. Resting a decision to defer the review on the possible result of the litigation from the investigation is inappropriate because the result of this litigation, including any appeals, is uncertain and it could take a significant period of time to resolve. In this regard, the Department notes that the redetermination was recently remanded back to the Department for further consideration. See Dorbest Ltd. v. United States, Slip. Op. 11-14 (CIT Consol. No. 05-00003 February 9, 2011). Furthermore, the Department has previously rejected this argument as a basis for deferring the review.⁹ For all these reasons, we have not deferred the instant review with respect to Dorbest.

⁹ See Initiation of Antidumping and Countervailing Duty Administrative Reviews and Deferral of Administrative Reviews, 71 FR 17077 (April 5, 2006).

Initiation of Review:

In accordance with 19 CFR 351.221(c)(1)(i), we are initiating an administrative review of the antidumping duty order on wooden bedroom furniture from the PRC with respect to the following companies. We intend to issue the final results of this review not later than January 31, 2012.

¹⁰ If one of the named companies does not qualify for a separate rate, all other exporters of wooden bedroom furniture from the PRC that have not qualified for a separate rate are deemed to be covered by this review as part of the single PRC entity of which the named exporters are a part.

| Period to be reviewed
Antidumping Duty Proceeding
THE PEOPLE'S REPUBLIC OF CHINA:
Wooden Bedroom Furniture¹⁰ A-570-890 | 1/1/10-12/31/10
Alexandre International Corp.;* Southern Art Development Ltd.;* Alexandre Furniture (Shenzhen) Co., Ltd.;* Southern Art Furniture Factory*
Art Heritage International, Ltd.;* Super Art Furniture Co., Ltd.;* Artwork Metal & Plastic Co., Ltd.;* Jibson Industries Ltd.,* Always Loyal International*
Baigou Crafts Factory of Fengkai*
Billy Wood Industrial (Dong Guan) Co., Ltd.;* Great Union Industrial (Dongguan) Co., Ltd.;* Time Faith Ltd.*
Brother Furniture Manufacture Co., Ltd.
C.F. Kent Co., Inc.
C.F. Kent Hospitality, Inc.
Champion Sun Industries Limited.
Changshu HTC Import & Export Co., Ltd.*
Cheng Meng Furniture (PTE) Ltd.;* Cheng Meng Decoration & Furniture (Suzhou) Co., Ltd.*
Chuan Fa Furniture Factory*
Clearwise Company Limited*
COE Ltd.*
Contact Co., Ltd.
Dalian Huafeng Furniture Co., Ltd.*
Dalian Huafeng Furniture Group Co., Ltd.
Decca Furniture Ltd.*
Denny's Furniture Associates Corp.
Denny's International Co., Ltd.
Der Cheng Furniture Co., Ltd.
Der Cheng Wooden Works.
Dongguan Bon Ten Furniture Co., Ltd.*
Dongguan Cambridge Furniture Co.;* Glory Oceanic Co., Ltd.*
Dongguan Chunsan Wood Products Co., Ltd.
Dongguan Creation Furniture Co., Ltd.;* Creation Industries Co., Ltd.*
Dong Guan Golden Fortune Houseware Co., Ltd.
Dongguan Grand Style Furniture Co. Ltd.;* Hong Kong Da Zhi Furniture Co., Ltd.*
Dongguan Great Reputation Furniture Co., Ltd.*
Dongguan Hero Way Woodwork Co., Ltd.;* Dongguan Da Zhong Woodwork Co., Ltd.;* Hero Way Enterprises Ltd.;* Well Earth International Ltd.*
Dongguan Hua Ban Furniture Co., Ltd.
Dongguan Huansheng Furniture Co., Ltd.*
Dongguan Hung Sheng Artware Products Co., Ltd.;* Coronal Enterprise Co., Ltd.*
Dongguan Kin Feng Furniture Co., Ltd.*
Dongguan Kingstone Furniture Co., Ltd.;* Kingstone Furniture Co., Ltd.*
Dongguan Landmark Furniture Products Ltd.*
Dongguan Liaobushangdun Huada Furniture Factory;* Great Rich (HK) Enterprise Co. Ltd.*
Dongguan Lung Dong Furniture Co., Ltd.;* Dongguan Dong He Furniture Co., Ltd.*
Dongguan Mu Si Furniture Co., Ltd.*
Dongguan Singways Furniture Co., Ltd.*
DongGuan Sundart Timber Products Co., Ltd.
Dongguan Sunrise Furniture Co., Ltd.;* Taicang Sunrise Wood Industry Co., Ltd.;* Taicang Fairmount Designs Furniture Co., Ltd.;* Meizhou Sunrise Furniture Co., Ltd.*
Dongguan Sunrise Furniture Co.;* Taicang Sunrise Wood Industry Co., Ltd.;* Shanghai Sunrise Furniture Co., Ltd.;* Fairmont Designs*
Dongguan Sunshine Furniture Co., Ltd.*
Dongguan Yihaiwei Furniture Limited*
Dongguan Yujia Furniture Co., Ltd.
Dongying Huanghekou Furniture Industry Co., Ltd.*
Dorbest Ltd.;* Rui Feng Woodwork Co., Ltd. aka Rui Feng Woodwork (Dongguan) Co., Ltd.* Rui Feng Lumber Development Co., Ltd. aka Rui Feng Lumber Development (Shenzhen) Co., Ltd.*
Eurosa (Kunshan) Co., Ltd.;* Eurosa Furniture Co., (PTE) Ltd.*
Ever Spring Furniture Company Ltd.
Evershine Enterprise Co.
Fine Furniture (Shanghai) Ltd.*
Fleetwood Fine Furniture LP.
Foshan Guanqiu Furniture Co., Ltd.*
Fujian Putian Jinggong Furniture Co., Ltd.
Fuzhou Huan Mei Furniture Co., Ltd.*
Gainwell Industries Limited.
Garri Furniture (Dong Guan) Co., Ltd.;* Molabile International, Inc.;* Weei Geo Enterprise Co., Ltd.*
Golden Well International (HK) Ltd.*
Green River Wood (Dongguan) Ltd.
Guangdong Gainwell Industrial Furniture Co., Ltd.
Guangzhou Maria Yee Furnishings Ltd.;* Pyla HK, Ltd.;* Maria Yee, Inc.*
Hainan Jong Bao Lumber Co., Ltd.;* Jibbon Enterprise Co., Ltd.*
Hang Hai Woodcraft's Art Factory*
Hangzhou Cadman Trading Co., Ltd.*
Hong Kong Jingbi Group.
Hualing Furniture (China) Co., Ltd.;* Tony House Manufacture (China) Co., Ltd.;* Buysell Investments Ltd.;* Tony House Industries Co., Ltd.*
Huasen Furniture Co., Ltd.
Jardine Enterprise, Ltd.*
Jiangmen Kinwai Furniture Decoration Co., Ltd.*
Jiangmen Kinwai International Furniture Co., Ltd.*
Jiangsu Dare Furniture Co., Ltd.*
Jiangsu Weifu Group Fullhouse Furniture Mfg. Corp.*
Jiangsu Xiangsheng Bedtime Furniture Co., Ltd.*
Jiangsu Yuexing Furniture Group Co., Ltd.*
Jiant Furniture Co., Ltd.
Jiedong Lehouse Furniture Co., Ltd.*
King Kei Trading Company Limited.
King's Way Furniture Industries Co., Ltd.
Kingsyear Ltd.
Kuan Lin Furniture (Dong Guan) Co., Ltd.;* Kuan Lin Furniture Factory;* Kuan Lin Furniture Co., Ltd.*
Kunshan Lee Wood Product Co., Ltd.*
Kunshan Summit Furniture Co., Ltd.*
Langfang Tiancheng Furniture Co., Ltd.*
Leefu Wood (Dongguan) Co., Ltd.;* King Rich International, Ltd.*
Link Silver Ltd. (V.I.B.);* Forward Win Enterprises Company Limited;* Dongguan Haoshun Furniture Ltd.*
Locke Furniture Factory;* Kai Chan Furniture Co., Ltd.;* Kai Chan (Hong Kong) Enterprise Ltd.;* Taiwan Kai Chan Co., Ltd.*
Longkou Huangshan Furniture Factory.
Longrange Furniture Co., Ltd.*
Meikangchi (Nantong) Furniture Company Ltd.*
MoonArt Furniture Group.
MoonArt International Inc.
Nanhai Baiyi Woodwork Co., Ltd.*
Nanhai Jiantai Woodwork Co., Ltd;* Fortune Glory Industrial Ltd. (H.K. Ltd.)*
Nanjing Jardine Enterprise, Ltd.
Nanjing Nanmu Furniture Co., Ltd.
Nantong Dongfang Orient Furniture Co., Ltd.*
Nantong Wangzhuang Furniture Co., Ltd.
Nantong Yangzi Furniture Co., Ltd.*
Nantong Yushi Furniture Co., Ltd.*
Nathan International Ltd.;* Nathan Rattan Factory.*
Ningbo Techniwood Furniture Industries Limited.
Ningbo Fubang Furniture Industries Limited.
Ningbo Furniture Industries Company Ltd.
Northeast Lumber Co., Ltd.
Passwell Wood Corporation.
Perfect Line Furniture Co., Ltd.*
Pleasant Wave Limited* Passwell Corporation*
Prime Wood International Co., Ltd;* Prime Best International Co., Ltd.;* Prime Best Factory;* Liang Huang (Jiaxing) Enterprise Co., Ltd.*
Putian Jinggong Furniture Co., Ltd.*
Qingdao Liangmu Co., Ltd.*
Restonic (Dongguan) Furniture Ltd.;* Restonic Far East (Samoa) Ltd.*
Rizhao Sanmu Woodworking Co., Ltd.*
S.Y.C. Family Enterprise Co., Ltd.
Season Furniture Manufacturing Co.;* Season Industrial Development Co.*
Sen Yeong International Co., Ltd.;* Sheh Hau International Trading Ltd.*
Senyuan Furniture Group.
Shanghai Aosen Furniture Co., Ltd.
Shanghai Fangjia Industry Co., Ltd.*
Shanghai Hospitality Product Mfg., Co., Ltd.
Shanghai Industries Group.
Shanghai Jian Pu Export & Import Co., Ltd.*
Shanghai Kent Furniture Co., Ltd.
Shanghai Maoji Imp and Exp Co., Ltd.*
Shanghai Season Industry & Commerce Co., Ltd.
Shanghai Zhiyi (Jiashun) Furniture Co., Ltd.
Shanghai Zhiyi Furniture and Decoration Co., Ltd.
Shaoxing Mengxing Furniture Co., Ltd.
Sheng Jing Wood Products (Beijing) Co., Ltd.;* Telstar Enterprises Ltd.*
Shenyang Shining Dongxing Furniture Co., Ltd.*
Shenzhen Forest Furniture Co., Ltd.*
Shenzhen Jiafa High Grade Furniture Co., Ltd.;* Golden Lion International Trading Ltd.*
Shenzhen New Fudu Furniture Co., Ltd.*
Shenzhen Shen Long Hang Industry Co., Ltd.*
Shenzhen Wonderful Furniture Co., Ltd.*
Shenzhen Xiande Furniture Factory*
Shing Mark Enterprise Co., Ltd.;* Carven Industries Limited (BVI);* Carven Industries Limited (HK);* Dongguan Zhenxin Furniture Co., Ltd.;* Dongguan Yongpeng Furniture Co., Ltd.*
Shun Feng Furniture Co., Ltd.*
Songgang Jasonwood Furniture Factory;* Jasonwood Industrial Co., Ltd. S.A.*
Starwood Furniture Manufacturing Co., Ltd.
Starwood Industries Ltd.*
Strongson Furniture (Shenzhen) Co., Ltd.;* Strongson Furniture Co., Ltd.;* Strongson (HK) Co.*
Sundart International, Ltd.
Sunforce Furniture (Hui-Yang) Co., Ltd.;* Sun Fung Wooden Factory;* Sun Fung Co.;* Shin Feng Furniture Co., Ltd.;* Stupendous International Co., Ltd.*
Superwood Co., Ltd.;* Lianjiang Zongyu Art Products Co., Ltd.*
Tarzan Furniture Industries Ltd.;* Samso Industries Ltd.*
Techniwood (Macao Commercial Offshore) Limited
Techniwood Industries Ltd.;* Ningbo Furniture Industries Limited;* Ningbo Hengrun Furniture Co. Ltd.*
Tianjin Fortune Furniture Co., Ltd.*
Tianjin Master Home Furniture.*
Tianjin Phu Shing Woodwork Enterprise Co., Ltd.*
Tradewinds Furniture Ltd.;* Fortune Glory Industrial Ltd. (H. K. Ltd.)*
Tradewinds International Enterprise Ltd.
Transworld (Zhang Zhou) Furniture Co., Ltd.*
Trendex Industries Ltd.
Tube-Smith Enterprise (Zhangzhou) Co., Ltd.;* Tube-Smith Enterprise (Haimen) Co., Ltd.;* Billionworth Enterprises Ltd.*
U-Rich Furniture (Zhangzhou) Co., Ltd.;* U-Rich Furniture Ltd.*
Wan Bao Chen Group Hong Kong Co., Ltd.
Wanhengtong Nueevder (Furniture) Manufacture Co., Ltd.;* Dongguan Wanengtong Industry Co., Ltd.*
Wanvog Furniture (Kunshan) Co., Ltd.*
Winny Overseas, Ltd.;* Zhongshan Winny Furniture Ltd.;* Winny Universal Ltd.*
Woodworth Wooden Industries (Dong Guan) Co., Ltd.*
World Design International Co., Ltd.
Xiamen Yongquan Sci-Tech Development Co., Ltd.*
Xilinmen Furniture Co., Ltd.
Xingli Arts & Crafts Factory of Yangchun.
Yeh Brothers World Trade, Inc.*
Yihua Timber Industry Co., Ltd.;* Guangdong Yihua Timber Industry Co., Ltd.*
Yuexing Group Co., Ltd.
Zhang Zhou Sanlong Wood Product Co., Ltd.*
Zhangjiagang Daye Hotel Furniture Co., Ltd.*
Zhangjiagang Zheng Yan Decoration Co., Ltd.*
Zhangjiang Sunwin Arts & Crafts Co., Ltd.*
Zhangzhou Guohui Industrial & Trade Co., Ltd.*
Zhejiang Shaoxing Huaweimei Furniture Co., Ltd.
Zhejiang Tianyi Scientific & Educational Equipment Co., Ltd.*
Zhong Shan Fullwin Furniture Co., Ltd.*
Zhong Shan Heng Fu Furniture Co.
Zhongshan Fengheng Furniture Co., Ltd.
Zhongshan Fookyik Furniture Co., Ltd.*
Zhongshan Gainwell Furniture Co., Ltd.*
Zhongshan Golden King Furniture Industrial Co., Ltd.*
Zhongshan Yiming Furniture Co., Ltd.
Zhoushan For-Strong Wood Co., Ltd.*
* These companies received a separate rate in the most recent segment of this proceeding in which they participated.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures, 73 FR 3634 (January 22, 2008). Those procedures apply to the administrative review of the antidumping duty order on wooden bedroom furniture from the PRC being initiated through this notice. Parties that wish to participate in the antidumping duty administrative review of wooden bedroom furniture from the PRC should ensure that they meet the requirements in these procedures (e.g., the filing of separate letters of appearance as discussed in 19 CFR 351.103(d)).

This initiation and notice are in accordance with section 751(a) of the Act (19 U.S.C. 1675(a)), and 19 CFR 351.221(c)(1)(i).

Dated: February 22, 2011.
Christian Marsh,
Deputy Assistant Secretary for Antidumping and Countervailing Duty Operations.

[FR Doc. 2011-4314 Filed 2-25-11; 8:45 am]

BILLING CODE 3510-DS-P